DEPARTMENT OF COMMERCE

National Oceanic and Atmospheric Administration

[I.D. 080603F]

North Pacific Fishery Management Council; Public Meeting

AGENCY: National Marine Fisheries Service (NMFS), National Oceanic and Atmospheric Administration (NOAA), Commerce.

ACTION: Notice of public meetings.

SUMMARY: The North Pacific Fishery Management Council's (Council) Steller Sea Lion (SSL) Mitigation Committee will meet in Seattle, WA.

DATES: The meetings will be held on August 27, 2003, through August 29, 2003, from 8:30 a.m. until 5 p.m. each day.

ADDRESSES: The meeting will be held at the Alaska Fisheries Science Center, 7600 Sand Point Way NE., Building 4, Traynor Seminar Room 2079, Seattle, WA 98115.

Council address: North Pacific Fishery Management Council, 605 W. 4th Ave., Suite 306, Anchorage, AK 99501-2252.

FOR FURTHER INFORMATION CONTACT: William Wilson, Council staff; telephone: 907-271-2809.

SUPPLEMENTARY INFORMATION: The Committee is scheduled to review proposals to amend Steller sea lion protection measures in the Gulf of Alaska groundfish fishery management plan to address pertinent fishery management problems and concerns. The Committee will develop recommendations for the Council to consider at its October meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: August 6, 2003.
Richard W. Surdi,
Acting Director, Office of Sustainble Fisheries, National Marine Fisheries Service.

[FR Doc. 03-20513 Filed 8-11-03; 8:45 am]

BILLING CODE 3510-22-S